DEPARTMENT OF HEALTH AND HUMAN SERVICES

Centers for Disease Control and Prevention

Advisory Committee on Breast Cancer in Young Women (ACBCYW); Meeting

AGENCY: Centers for Disease Control and Prevention (CDC), Department of Health and Human Services (HHS).

ACTION: Notice of meeting.

SUMMARY: In accordance with the Federal Advisory Committee Act, the CDC announces the following meeting for the Advisory Committee on Breast Cancer in Young Women (ACBCYW). This meeting is open to the public, limited only by audio and web conference lines (100 audio and web conference lines available). The public is welcome to listen to the meeting by accessing the teleconference and web conference information below. Online Registration Required: All ACBCYW Meeting participants must register for the meeting online at least 5 business days in advance at https://www.cdc.gov/cancer/breast/what_cdc_is_doing/conference.htm. Please complete all the required fields before submitting your registration and submit no later than November 16, 2020.

DATES: The meeting will be held on November 20, 2020, from 8:00 a.m. to 1:00 p.m., EST.

ADDRESSES: The teleconference access is 1-888-606-5944, and the passcode is 8340472. The web conference access is https://adobeconnect.cdc.gov/rwa641n3jrry/.

FOR FURTHER INFORMATION CONTACT: Jeremy McCallister, Designated Federal Officer, National Center for Chronic Disease Prevention and Health Promotion, CDC, 5770 Buford Highway, NE, Mailstop S107-4, Atlanta, Georgia 30341, Telephone (404) 639-7989, Fax (770) 488-4760, Email: acbcyw@cdc.gov.

SUPPLEMENTARY INFORMATION: Purpose: The committee provides advice and guidance to the Secretary, HHS; the Assistant Secretary for Health; and the Director, CDC, regarding the formative research, development, implementation and evaluation of evidence-based activities designed to prevent breast cancer (particularly among those at heightened risk) and promote the early detection and support of young women who develop the disease. The advice provided by the Committee will assist in ensuring scientific quality, timeliness, utility, and dissemination of credible appropriate messages and resource materials.

Matters to be Considered: The agenda will include discussions on current topics related to breast cancer in young women. These will include Mental/Behavioral Health, Sexual Health, Genetics and Genomics, and Provider Engagement. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-21848 Filed 10-1-20; 8:45 am]

BILLING CODE 4163-18-P